DEPARTMENT OF JUSTICE

[OMB Number 1121-0292]

Agency Information Collection Activities: Proposed Collection; Comments Requested: Existing Collection, Survey of Sexual Violence (SSV)

ACTION: 60-day notice.

The Department of Justice (DOJ), Bureau of Justice Statistics, will be submitting the following information collection request to the Office of Management and Budget (OMB) for review and approval in accordance with the Paperwork Reduction Act of 1995. The proposed information collection is published to obtain comments from the public and affected agencies. Comments are encouraged and will be accepted for “sixty days” until March 10, 2014. This process is conducted in accordance with 5 CFR 1320.10.

If you have comments especially on the estimated public burden or associated response time, suggestions, or need a copy of the proposed information collection instrument with instructions or additional information, please contact Ramona R. Rantala, Bureau of Justice Statistics, 810 Seventh Street NW., Washington, DC 20531 (phone: 202-307-6170).

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of information collection: Existing data collection.

(2) Title of the form/collection: Survey of Sexual Violence.

(3) Agency form number, if any, and the applicable component of the Department of Justice sponsoring the collection: Form Number: SSV1, SSV2, SSV3, SSV4, SSV5, SSV6, SSVIA, SSVIJ; Bureau of Justice Statistics, Department of Justice.

(4) Affected public who will be asked or required to respond, as well as a brief abstract: Primary: State, Local, or Tribal Government. Other: Federal Government and business (privately operated correctional institutions, both for-profit and not-for-profit). The data will be used to develop estimates for the incidence and prevalence of sexual assault within correctional facilities, as well as characteristics of substantiated incidents, as required under the Prison Rape Elimination Act of 2003 (Pub. L. 108-79).

(5) An estimate of the total number of respondents and the amount of time estimated for an average respondent to respond: It is estimated that 1,340 respondents will complete each summary form within 60 minutes and each substantiated incident form (as needed, we estimate about 1,000 forms will be completed) in 15 minutes.

(6) An estimate of the total public burden (in hours) associated with the collection: There are an estimated 1,590 total annual burden hours associated with this collection.

If additional information is required contact: Jerri Murray, Department Clearance Officer, United States Department of Justice, Justice Management Division, Policy and Planning Staff, Justice Management Division, Planning Staff, Two Constitution Avenue, 145 N Street NE., Room 3W-1407B, Washington, DC 20530.

Dated: January 3, 2014.
Jerri Murray,
Department Clearance Officer for PRA, Department of Justice.

[FR Doc. 2014-00117 Filed 1-8-14; 8:45 am]

BILLING CODE 4410-18-P